DEPARTMENT OF HOMELAND SECURITY

Office of the Secretary

[Docket No. DHS-2013-0006]

Privacy Act of 1974; Computer Matching Program

AGENCY: Department of Homeland Security/U.S. Citizenship and Immigration Services.

ACTION: Notice.

Overview Information: Privacy Act of 1974; Computer Matching Program between the Department of Homeland Security/U.S. Citizenship and Immigration Services and the California Department of Social Services.

SUMMARY: This document provides notice of the existence of a Computer Matching Agreement that establishes a computer matching program between the Department of Homeland Security/U.S. Citizenship and Immigration Services and the California Department of Social Services.

SUPPLEMENTARY INFORMATION: The Department of Homeland Security/U.S. Citizenship and Immigration Services provides this notice in accordance with The Privacy Act of 1974 (5 U.S.C. 552a), as amended by the Computer Matching and Privacy Protection Act of 1988 (Pub. L. 100-503) and the Computer Matching and Privacy Protection Amendments of 1990 (Pub. L. 101-508) (Privacy Act); Office of Management and Budget (OMB) Final Guidance Interpreting the Provisions of Public Law 100-503, the Computer Matching and Privacy Protection Act of 1988, 54 FR 25818 (June 19, 1989); and OMB Circular A-130, Appendix I, 65 FR 77677 (December 12, 2000).

Participating Agencies: The Department of Homeland Security/U.S. Citizenship and Immigration Services (DHS/USCIS) is the source agency and the California Department of Social Services (CA-DSS) is the recipient agency.

Purpose of the Match: The Computer Matching Agreement (Agreement) that establishes this computer matching program allows DHS/USCIS to provide CA-DSS with electronic access to immigration status information contained within the DHS/USCIS Verification Information System (VIS). The immigration status information will enable CA-DSS to determine whether an applicant is eligible for benefits under the Temporary Assistance for Needy Families (TANF) program and Supplemental Nutrition Assistance Program (SNAP) program administered by CA-DSS.

Authority for Conducting the Matching Program: Section 121 of the Immigration Reform and Control Act (IRCA) of 1986, Public Law 99-603, as amended by the Personal Responsibility and Work Opportunity Reconciliation Act of 1996 (PRWORA), requires DHS to establish a system for the verification of immigration status of alien applicants for, or recipients of, certain types of benefits as specified in IRCA, and to make this system available to state agencies that administer such benefits. Section 121(c) of IRCA amends Section 1137 of the Social Security Act and certain other sections of law that pertain to Federal entitlement benefit programs to require state agencies administering these programs to use the DHS/USCIS verification system to make eligibility determinations in order to prevent the issuance of benefits to alien applicants who are not entitled to program benefits because of their immigration status. The VIS database is the DHS/USCIS system established and made available to CA-DSS and other covered agencies for use in making these eligibility determinations.

CA-DSS seeks access to the information contained in DHS/USCIS VIS database for the purpose of confirming the immigration status of alien applicants for, or recipients of, the benefits it administers, in order to discharge its obligation to conduct such verifications pursuant to Section 1137 of the Social Security Act, 42 U.S.C. 1320b-7(a). Pursuant to Section 840 of the Personal Responsibility and Work Reconciliation Act of 1996, verification of applicants for Food Stamps through DHS/USCIS is optional for CA-DSS. CA-DSS has elected to use the VIS for all alien applicants for Food Stamps for the length of this Agreement.

Categories of Records and Individuals Covered: DHS/USCIS will provide the following to CA-DSS: Records in the DHS/USCIS VIS database containing information related to the status of aliens and other persons on whom DHS/USCIS has a record as an applicant, petitioner, or beneficiary. See DHS/USCIS-004 Systematic Alien Verification for Entitlements Program System of Records Notice, 76 FR 58525 (September 21, 2011).

CA-DSS will provide the following to DHS/USCIS: CA-DSS records pertaining to alien applicants for, or recipients of, entitlement benefit programs administered by the State.

CA-DSS will match the following records with DHS-USCIS records:

• Alien Registration Number (also referred to as USCIS Number)

• 1-94 Number

• Last Name

• First Name

• Middle Name

• Date of Birth

• Nationality

• Social Security Number

DHS-USCIS will match the following records with CA-DSS records:

• Alien Registration Number

• Last Name

• First Name

• Middle Name

• Date of Birth

• Country of Birth (not nationality)

• Social Security Number (if available)

• Date of Entry

• Immigration Status Data

• Employment Eligibility Data

Inclusive Dates of the Matching Program: This Agreement will be effective 40 days after a report concerning the computer matching program has been transmitted to the Office of Management and Budget (OMB) and transmitted to Congress along with a copy of the Agreement, or 30 days after publication of a computer matching notice in the Federal Register, whichever is later. The Agreement (and matching activity) will continue for 18 months from the effective date, unless within three (3) months prior to the expiration of this Agreement, the Data Integrity Board approves a one-year extension pursuant to 5 U.S.C. 552a(o)(2)(D).

Address for Receipt of Public Comments or Inquires: Individuals wishing to comment on this matching program or obtain additional information about the program, including requesting a copy of the Computer Matching Agreement between DHS-USCIS and CA-DSS, may contact:

For general questions please contact: Donald K. Hawkins (202-272-8000), Privacy Officer, U.S. Citizenship and Immigration Services, Department of Homeland Security 20 Massachusetts Avenue NW., Washington, DC 20529.

For privacy questions please contact: Jonathan R. Cantor (202-343-1717), Acting Chief Privacy Officer, Privacy Office Department of Homeland Security Washington, DC 20528.

Jonathan R. Cantor,
Acting Chief Privacy Officer, Department of Homeland Security.

[FR Doc. 2013-15355 Filed 6-26-13; 8:45 am]

BILLING CODE 9111-97-P